DEPARTMENT OF HOMELAND SECURITY

Federal Emergency Management Agency

[Docket ID FEMA-2018-0002; Internal Agency Docket No. FEMA-B-1816]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: March 27, 2018.
Roy E. Wright,
Deputy Associate Administrator for Insurance and Mitigation, Department of Homeland Security, Federal Emergency Management Agency.

State and county | Location and case No. | Chief executive officer of community | Community map repository | Online location of letter of map revision | Date of modification | Community No.
Colorado:
Douglas | Town of Castle Rock (17-08-1320P) | The Honorable Jennifer Green Mayor, Town of Castle Rock, 100 North Wilcox Street, Castle Rock, CO 80104 | Utilities Department, 175 Kellogg Court, Castle Rock, CO 80104 | https://msc.fema.gov/portal/advanceSearch | Jun. 1, 2018 | 080050
Douglas | Unincorporated areas of Douglas County (17-08-1320P) | The Honorable Roger Partridge, Chairman, Douglas County Board of Commissioners, 100 3rd Street, Castle Rock, CO 80104 | Douglas County Planning Department, 100 3rd Street, Castle Rock, CO 80104 | https://msc.fema.gov/portal/advanceSearch | Jun. 1, 2018 | 080049
Jefferson | City of Westminster (17-08-1102P) | The Honorable Herb Atchison, Mayor, City of Westminster, 4800 West 92nd Avenue, Westminster, CO 80031 | City Hall, 4800 West 92nd Avenue, Westminster, CO 80031 | https://msc.fema.gov/portal/advanceSearch | Jun. 8, 2018 | 080008
Fairfield | City of Norwalk (17-01-2751P) | The Honorable Harry W. Rilling, Mayor, City of Norwalk, 125 East Avenue, Norwalk, CT 06851 | Planning and Zoning Department, 125 East Avenue, Norwalk, CT 06851 | https://msc.fema.gov/portal/advanceSearch | May 29, 2018 | 090012
Fairfield | City of Stamford (18-01-0055P) | The Honorable David Martin, Mayor, City of Stamford, 888 Washington Boulevard, Stamford, CT 06904 | City Hall, 888 Washington Boulevard, Stamford, CT 06904 | https://msc.fema.gov/portal/advanceSearch | May 24, 2018 | 090015
Fairfield | Town of Trumbull (17-01-1576P) | The Honorable Vicki A. Tesoro, First Selectman, Town of Trumbull Board of Selectmen, 5866 Main Street, Trumbull, CT 06611 | Town Hall, 5866 Main Street, Trumbull, CT 06611 | https://msc.fema.gov/portal/advanceSearch | Jun. 1, 2018 | 090017
Florida:
Charlotte | Unincorporated areas of Charlotte County (17-04-7102P) | The Honorable Bill Truex, President, Charlotte County Board of Commissioners, 18500 Murdock Circle, Suite 536, Port Charlotte, FL 33948 | Charlotte County Community Development Department, 18500 Murdock Circle, Port Charlotte, FL 33948 | https://msc.fema.gov/portal/advanceSearch | May 25, 2018 | 120061
Collier. | Unincorporated areas of Collier County (18-04-0709P) | The Honorable Penny Taylor, Chair, Collier County Board of Commissioners, 3299 Tamiami Trail East, Suite 303, Naples, FL 34112 | Collier County Administrative Building, 3301 East Tamiami Trail, Building F, 1st Floor, Naples, FL 34112 | https://msc.fema.gov/portal/advanceSearch | Jun. 14, 2018 | 120067
Duval | City of Jacksonville (17-04-6148P) | The Honorable Lenny Curry, Mayor, City of Jacksonville, 117 West Duval Street, Suite 400, Jacksonville, FL 32002 | Development Services Department, 214 North Hogan Street, Suite 2100, Jacksonville, FL 32002 | https://msc.fema.gov/portal/advanceSearch | May 29, 2018 | 120077
Lee | Town of Fort Myers Beach (17-04-7870P) | The Honorable Dennis C. Boback, Mayor, Town of Fort Myers Beach, 2525 Estero Boulevard, Fort Myers Beach, FL 33931 | Community Development Department, 2525 Estero Boulevard, Fort Myers Beach, FL 33931 | https://msc.fema.gov/portal/advanceSearch | Jun. 7, 2018 | 120673
Lee | Town of Fort Myers Beach (18-04-0640P) | The Honorable Dennis C. Boback, Mayor, Town of Fort Myers Beach, 2525 Estero Boulevard, Fort Myers Beach, FL 33931 | Community Development Department, 2525 Estero Boulevard, Fort Myers Beach, FL 33931 | https://msc.fema.gov/portal/advanceSearch | Jun. 14, 2018 | 120673
Manatee | City of Bradenton (18-04-1119P) | The Honorable Wayne H. Poston, Mayor, City of Bradenton, 101 Old Main Street West, Bradenton, FL 34205 | City Hall, 101 Old Main Street West, Bradenton, FL 34205 | https://msc.fema.gov/portal/advanceSearch | Jun. 15, 2018 | 120155
Manatee | City of Bradenton Beach (18-04-0582P) | The Honorable John Chappie, Mayor, City of Bradenton Beach, 107 Gulf Drive North, Bradenton Beach, FL 34217 | Building and Planning Department, 107 Gulf Drive North, Bradenton Beach, FL 34217 | https://msc.fema.gov/portal/advanceSearch | Jun. 6, 2018 | 125091
Manatee. | Unincorporated areas of Manatee County (18-04-1119P) | The Honorable Betsy Benac, Chair, Manatee County Board of Commissioners, P.O. Box 1000, Bradenton, FL 34206 | Manatee County Building and Development Services Department, 1112 Manatee Avenue West, Bradenton, FL 34205 | https://msc.fema.gov/portal/advanceSearch | Jun. 15, 2018 | 120153
Pasco | City of Port Richey (18-04-0510P) | The Honorable Dale Massad, Mayor, City of Port Richey, 6333 Ridge Road, Port Richey, FL 34668 | Building and Development Services Department, 6333 Ridge Road, Port Richey, FL 34668 | https://msc.fema.gov/portal/advanceSearch | May 31, 2018 | 120234
Sarasota. | Unincorporated areas of Sarasota County (18-04-0312P) | The Honorable Nancy Detert, Chair, Sarasota County Board of Commissioners, 1660 Ringling Boulevard, Sarasota, FL 34236 | Sarasota County Planning and Development Services Department, 1001 Sarasota Center Boulevard, Sarasota, FL 34240 | https://msc.fema.gov/portal/advanceSearch | May 24, 2018 | 125144
Georgia:
Douglas | City of Douglasville (17-04-6806P) | The Honorable Rochelle Robinson, Mayor, City of Douglasville, 6695 Church Street, Douglasville, GA 30134 | City Hall, 6695 Church Street, Douglasville, GA 30134 | https://msc.fema.gov/portal/advanceSearch | Jun. 4, 2018 | 130305
Douglas | Unincorporated areas of Douglas County (17-04-6806P) | The Honorable Ramona Jackson Jones, Chairman, Douglas County Board of Commissioners, 8700 Hospital Drive, Douglasville, GA 30134 | Douglas County Development Services Department, 8700 Hospital Drive, Douglasville, GA 30134 | https://msc.fema.gov/portal/advanceSearch | Jun. 4, 2018 | 130306
Richmond | Augusta-Richmond County (17-04-3443P) | The Honorable Hardie Davis, Jr, Mayor, Augusta-Richmond County, 535 Telfair Street, Augusta, GA 30901 | Augusta-Richmond County Planning and Development Department, 535 Telfair Street, Augusta, GA 30901 | https://msc.fema.gov/portal/advanceSearch | May 25, 2018 | 130158
Kentucky:
Fayette | Lexington-Fayette Urban County Government (18-04-0043P) | The Honorable Jim Gray, Mayor, Lexington-Fayette Urban County Government, 200 East Main Street, Lexington, KY 40507 | LFUCG Phoenix Building, 101 East Vine Street, Lexington, KY 40507 | https://msc.fema.gov/portal/advanceSearch | Jun. 7, 2018 | 210067
North Carolina:
Durham | Unincorporated areas of Durham County (17-04-2721P) | The Honorable Wendy Jacobs, Chair, Durham County Board of Commissioners, 200 East Main Street, 2nd Floor, Durham, NC 27701 | Durham County Stormwater Services Department, 101 City Hall Plaza, Durham, NC 27701 | https://msc.fema.gov/portal/advanceSearch | Feb. 21, 2018 | 370085
Wayne | City of Goldsboro, (16-04-6905P) | The Honorable Chuck Allen, Mayor, City of Goldsboro, P.O. Drawer A, Goldsboro, NC 27533 | City Hall, 200 North Center Street, Goldsboro, NC 27530 | http://www.msc.fema.gov/lomc | Apr. 6, 2018 | 370255
Wayne | Unincorporated areas of Wayne County, (16-04-6905P) | The Honorable Bill Pate, Chairman, Wayne County Board of Commissioners, 224 East Walnut Street, Goldsboro, NC 27530 | Wayne County Manager's Office, 224 East Walnut Street, Goldsboro, NC 27533 | http://www.msc.fema.gov/lomc | Apr. 6, 2018 | 370254
Oklahoma:
Grady | City of Chickasha (17-06-2589P) | Mr. John Noblitt, Manager, City of Chickasha, 117 North 4th Street, Chickasha, OK 73018 | City Hall, 117 North 4th Street, Chickasha, OK 73018 | https://msc.fema.gov/portal/advanceSearch | Jun. 11, 2018 | 400234
Tulsa | City of Tulsa (18-06-0209P) | The Honorable G.T. Bynum, Mayor, City of Tulsa, 175 East 2nd Street, 15th Floor, Tulsa, OK 74103 | Planning and Development Department, 175 East 2nd Street, 4th Floor, Tulsa, OK 74103 | https://msc.fema.gov/portal/advanceSearch | May 29, 2018 | 405381
Pennsylvania:
Lancaster | Township of Warwick (18-03-0392P) | Mr. Daniel L. Zimmerman, Manager, Township of Warwick, P.O. Box 308, Lititz, PA 17543 | Township Hall, 315 Clay Road, Lititz, PA 17543 | https://msc.fema.gov/portal/advanceSearch | Jun. 15, 2018 | 421786
South Carolina:
Berkley | Unincorporated areas of Berkley County (17-04-5508P) | The Honorable William W. Peagler, III, Berkley County Supervisor, P.O. Box 6122, Moncks Corner, SC 29461 | Berkeley County Planning and Zoning Department, 1003 Highway 52, Moncks Corner, SC 29461 | https://msc.fema.gov/portal/advanceSearch | Jun. 14, 2018 | 450029
Jasper | City of Hardeeville (17-04-7055P) | The Honorable Harry Williams, Mayor, City of Hardeeville, 205 Main Street, Hardeeville, SC 29927 | Building Department, 205 Main Street, Hardeeville, SC 29927 | https://msc.fema.gov/portal/advanceSearch | May 24, 2018 | 450113
Richland | City of Columbia (17-04-5518P) | The Honorable Stephen K. Benjamin, Mayor, City of Columbia, P.O. Box 147, Columbia, SC 29217 | Department of Utilities and Engineering, 1136 Washington Street, Columbia, SC 29201 | https://msc.fema.gov/portal/advanceSearch | May 29, 2018 | 450172
Richland | City of Forest Acres (17-04-5518P) | The Honorable Frank Brunson, Mayor, City of Forest Acres, 5209 North Trenholm Road, Forest Acres, SC 29206 | City Hall, 5209 North Trenholm Road, Forest Acres, SC 29206 | https://msc.fema.gov/portal/advanceSearch | May 29, 2018 | 450174
South Dakota:
Lawrence | City of Spearfish (18-08-0192P) | The Honorable Dana Boke, Mayor, City of Spearfish, 625 North 5th Street, Spearfish, SD 57783 | City Hall, 625 North 5th Street, Spearfish, SD 57783 | https://msc.fema.gov/portal/advanceSearch | Jun. 13, 2018 | 460046
Texas:
Bell | City of Belton (17-06-2281P) | The Honorable Marion Grayson, Mayor, City of Belton, P.O. Box 120, Belton, TX 76513 | City Hall, 333 Water Street, Belton, TX 76513 | https://msc.fema.gov/portal/advanceSearch | Jun. 8, 2018 | 480028
Bexar | City of San Antonio (17-06-2974P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Jun. 6, 2018 | 480045
Collin | City of McKinney (17-06-4217P) | The Honorable George Fuller, Mayor, City of McKinney, P.O. Box 517, McKinney, TX 75070 | Engineering Department, 221 North Tennessee Street, McKinney, TX 75069 | https://msc.fema.gov/portal/advanceSearch | May 21, 2018 | 480135
Collin | City of Plano (17-06-4151P) | The Honorable Harry LaRosiliere, Mayor, City of Plano, 1520 K Avenue, Plano, TX 75074 | Engineering Department, 1520 K Avenue, Plano, TX 75074 | https://msc.fema.gov/portal/advanceSearch | May 21, 2018 | 480140
Collin | City of Richardson (17-06-4151P) | The Honorable Paul Voelker, Mayor, City of Richardson, 411 West Arapaho Road, Richardson, TX 75080 | Capital Projects Department, 411 West Arapaho Road, Richardson, TX 75080 | https://msc.fema.gov/portal/advanceSearch | May 21, 2018 | 480184
Collin | Town of Prosper (18-06-0355P) | The Honorable Ray Smith, Mayor, Town of Prosper, P.O. Box 307, Prosper, TX 75078 | Engineering Services Department, 409 East 1st Street, Prosper, TX 75078 | https://msc.fema.gov/portal/advanceSearch | Jun. 14, 2018 | 480141
Dallas | City of Dallas (17-06-3383P) | The Honorable Michael S. Rawlings, Mayor, City of Dallas, 1500 Marilla Street, Suite 5EN, Dallas, TX 75201 | Floodplain Management Department, 320 East Jefferson Boulevard, Room 301, Dallas, TX 75203 | https://msc.fema.gov/portal/advanceSearch | May 29, 2018 | 480171
Dallas | City of Farmers Branch (17-06-3383P) | The Honorable Robert C. Dye, Mayor, City of Farmers Branch, 13000 William Dodson Parkway, Farmers Branch, TX 75234 | City Hall, 13000 William Dodson Parkway, Farmers Branch, TX 75234 | https://msc.fema.gov/portal/advanceSearch | May 29, 2018 | 480174
Ellis | City of Waxahachie (17-06-1666P) | The Honorable Kevin Strength, Mayor, City of Waxahachie, 401 South Rogers Street, Waxahachie, TX 75165 | Public Works Department, 401 South Rogers Street, Waxahachie, TX 75165 | https://msc.fema.gov/portal/advanceSearch | May 31, 2018 | 480211
Ellis | Unincorporated areas of Ellis County (17-06-1666P) | The Honorable Carol Bush, Ellis County Judge, 101 West Main Street, Waxahachie, TX 75165 | Ellis County Courthouse, 101 West Main Street, Waxahachie, TX 75165 | https://msc.fema.gov/portal/advanceSearch | May 31, 2018 | 480798
El Paso | City of El Paso (18-06-0885P) | Mr. Tommy Gonzales, Manager, City of El Paso, 300 North Campbell Street, El Paso, TX 79901 | City Hall, 801 Texas Avenue, El Paso, TX 79901 | https://msc.fema.gov/portal/advanceSearch | Jun. 12, 2018 | 480214
Fort Bend | City of Rosenberg (17-06-3041P) | The Honorable William T. “Bill” Benton, Mayor, City of Rosenberg, P.O. Box 32, Rosenberg, TX 77471 | City Hall, 2110 4th Street, Rosenberg, TX 77471 | https://msc.fema.gov/portal/advanceSearch | Jun. 12, 2018 | 480232
Fort Bend | Unincorporated areas of Fort Bend County (17-06-3041P) | The Honorable Robert Hebert, Fort Bend County Judge, 401 Jackson Street, Richmond, TX 77469 | Fort Bend County Engineering Department, 301 Jackson Street, Richmond, TX 77469 | https://msc.fema.gov/portal/advanceSearch | Jun. 12, 2018 | 480228
Tarrant | Town of Westlake (17-06-3364P) | The Honorable Laura Wheat, Mayor, Town of Westlake, 1500 Solana Boulevard, Building 7, Suite 7200, Westlake, TX 76262 | Planning and Development Department, 1500 Solana Boulevard, Building 7, Suite 7200, Westlake, TX 76262 | https://msc.fema.gov/portal/advanceSearch | May 31, 2018 | 480614
Travis | City of Pflugerville (17-06-3914P) | The Honorable Victor Gonzales, Mayor, City of Pflugerville, P.O. Box 589, Pflugerville, TX 78691 | Development Services Department, 201-B East Pecan Street, Pflugerville, TX 78691 | https://msc.fema.gov/portal/advanceSearch | Jun. 18, 2018 | 481028
Williamson | City of Leander (17-06-3902P) | The Honorable Christopher Fielder, Mayor, City of Leander, P.O. Box 319, Leander, TX 78646 | City Hall, 200 West Willis Street, Leander, TX 78641 | https://msc.fema.gov/portal/advanceSearch | Jun. 8, 2018 | 481536
Utah:
Box Elder | City of Perry City (17-08-1022P) | The Honorable Kevin Jeppsen, Mayor, City of Perry City, 3005 South 1200 West, Perry City, UT 84302 | City Hall, 3005 South 1200 West, Perry City, UT 84302 | https://msc.fema.gov/portal/advanceSearch | Jun. 14, 2018 | 490010
Virginia:
Wise | City of Norton (18-03-0175P) | The Honorable William J. Mays, Mayor, City of Norton, P.O. Box 618, Norton, VA 24273 | City Hall, 618 Virginia Avenue Northwest, Norton, VA 24273 | https://msc.fema.gov/portal/advanceSearch | Jun. 6, 2018 | 510108
Wise | Unincorporated areas of Wise County (18-03-0175P) | Mr. Shannon C. Scott, Wise County Administrator, P.O. Box 570, Wise, VA 24293 | Wise County Building and Zoning Department, 206 East Main Street, Room 210, Wise, VA 24293 | https://msc.fema.gov/portal/advanceSearch | Jun. 6, 2018 | 510174
Wyoming:
Teton | Unincorporated areas of Teton County (17-08-0693P) | The Honorable Mark Newcomb, Chairman, Teton County Board of Commissioners, P.O. Box 3594, Jackson, WY 83001 | Teton County Engineering Department, 320 South King Street, Jackson, WY 83001 | https://msc.fema.gov/portal/advanceSearch | Jun. 14, 2018 | 560094

[FR Doc. 2018-07602 Filed 4-11-18; 8:45 am]

BILLING CODE 9110-12-P